DEPARTMENT OF HEALTH AND HUMAN SERVICES

Centers for Disease Control and Prevention

[60 Day-12-12LA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly S. Lane, at CDC, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Communities Putting Prevention to Work National Media Initiative—New—National Center for Chronic Disease Prevention and Health Promotion (NCCDPHP), Centers for Disease Control and Prevention (CDC).

Background and Brief Description

The American Recovery and Reinvestment Act of 2009 (ARRA) allotted $650 million to the Department of Health and Human Services (HHS) to support evidence-based prevention and wellness strategies. The cornerstone of the initiative is the Communities Putting Prevention to Work (CPPW) Community Program, administered by the CDC. In March 2010, HHS made 44 CPPW awards for community-based obesity and tobacco preventions efforts, followed in September 2010 by additional awards made possible by Affordable Care Act (ACA) funding. Between the two funding sources, there are 50 communities that are part of CPPW: 28 are obesity only-funded communities; 11 are dual-funded for both obesity and tobacco initiatives; and 11 are tobacco only-funded.

CPPW awardees are implementing interventions that they have selected from a preselected group of evidence-based strategies that have been defined for physical activity, nutrition, and tobacco use. CPPW program efforts are supported by a 30-month National Prevention Media Initiative. Although originally planned as a national campaign, CDC determined that the best support for the CPPW communities would be to shift to a localized approach. Thus, rather than a national campaign, CDC and an evaluation contractor worked with the communities to develop media buy plans and to place local media buys from an approved pool of creative materials. The media plans are being tailored to best support each awardee's local efforts, including tailored media mix, creative and timing. Each community has a different schedule for when the ads are running, but overall, ads placed by the CPPW National Media Initiative will run between February 2012 and December 2012.

CDC plans to conduct two cycles of information collection to evaluate the local media campaigns in 39 CPPW communities that are addressing obesity. Although we placed ads in all 50 communities, the Office on Smoking and Health is already evaluating the impact of tobacco media throughout the United States, including in CPPW communities. Therefore, the evaluation study described in this information collection request will concentrate on the 39 CPPW communities addressing obesity. Communities were initially provided the opportunity to select from twelve obesity prevention ads. Additionally, some communities requested CDC support in placing their own ads to strengthen their locally-branded marketing efforts. The topics addressed in all the ads that CDC placed are childhood obesity, nutrition, physical activity, and physical activity and physical education in schools. The intended audiences for these ads are the general public, with many communities focusing on parents, and specifically on mothers.

CDC plans to conduct two cycles of information collection: in Fall 2012 and Winter/Spring 2013. Information will be collected through brief telephone interviews with adults in the 39 CPPW communities that are focusing on obesity, after a brief screening process to obtain the respondent's consent and to determine eligibility. A separate sample will be drawn for each community. CDC plans to obtain a total of 6,000 complete responses for each cycle of data collection. Interview questions will assess: (1) Awareness (aided and unaided) of the local community media efforts/campaigns about obesity; (2) beliefs about and attitudes toward the issue of obesity in their communities; and (3) behaviors and behavioral intentions that encourage active living and healthy eating. The evaluation plan specifically seeks to identify and describe changes in beliefs and behaviors as a function of exposure to the media campaign.

The long-term goals of CPPW are to modify the environmental determinants of risk factors for chronic diseases; prevent or delay chronic diseases; promote wellness in children and adults; and provide positive, sustainable health change in communities. The insights to be gained from this information collection will be valuable to assessing the impact that CPPW has achieved in taking on the obesity epidemic and may be used to inform the design and delivery of future media campaigns.

OMB approval is requested for one year. Participation in the telephone interviews is voluntary and there are no costs to respondents other than their time.

Estimated Annualized Burden Hours
Type of respondent | Form name | Number of respondents | Number of responses per respondent | Average burden per response (in hr) | Total burden (in hr)
Adult General Public | Screener for the Community Telephone Interview | 22,400 | 1 | 5/60 | 187
| Community Telephone Interview (incomplete) | 400 | 1 | 5/60 | 33
| Community Telephone Interview (complete) | 12,000 | 1 | 10/60 | 2,000
Total |  |  |  |  | 2,220

Kimberly S. Lane,
Deputy Director, Office of Scientific Integrity, Office of the Associate Director for Science, Office of the Director, Centers for Disease Control and Prevention.

[FR Doc. 2012-12479 Filed 5-22-12; 8:45 am]

BILLING CODE 4163-18-P